DEPARTMENT OF TRANSPORTATION

Federal Aviation Administration

14 CFR Part 39

[Docket No. 2000-NM-307-AD; Amendment 39-12849; AD 2002-16-10]

RIN 2120-AA64

Airworthiness Directives; Bombardier Model DHC-8-100, -200, and -300 Series Airplanes

AGENCY: Federal Aviation Administration, DOT.

ACTION: Final rule.

SUMMARY: This amendment adopts a new airworthiness directive (AD), applicable to certain Bombardier Model DHC-8-100, -200, and -300 series airplanes, that requires various modifications of the airstair (main passenger) door. This action is necessary to prevent failure of the airstair door to open after a landing, which could result in a blocked escape route during an emergency evacuation. This action is intended to address the identified unsafe condition.

DATES: Effective September 26, 2002.

The incorporation by reference of certain publications listed in the regulations is approved by the Director of the Federal Register as of September 26, 2002.

ADDRESSES: The service information referenced in this AD may be obtained from Bombardier, Inc., Bombardier Regional Aircraft Division, 123 Garratt Boulevard, Downsview, Ontario M3K 1Y5, Canada. This information may be examined at the Federal Aviation Administration (FAA), Transport Airplane Directorate, Rules Docket, 1601 Lind Avenue, SW., Renton, Washington; or at the FAA, New York Aircraft Certification Office, 10 Fifth Street, Third Floor, Valley Stream, New York; or at the Office of the Federal Register, 800 North Capitol Street, NW., Suite 700, Washington, DC.

FOR FURTHER INFORMATION CONTACT: Dan Parrillo, Aerospace Engineer, Systems and Flight Test Branch, ANE-172, FAA, New York Aircraft Certification Office, 10 Fifth Street, Third Floor, Valley Stream, New York 11581; telephone (516) 256-7505; fax (516) 568-2716.

SUPPLEMENTARY INFORMATION: A proposal to amend part 39 of the Federal Aviation Regulations (14 CFR part 39) to include an airworthiness directive (AD) that is applicable to certain Bombardier Model DHC-8-100, -200, and -300 series airplanes was published in the Federal Register on March 20, 2002 (67 FR 12908). That action proposed to require various modifications of the airstair (main passenger) door.

Comments

Interested persons have been afforded an opportunity to participate in the making of this amendment. No comments were submitted in response to the proposal or the FAA's determination of the cost to the public.

Explanation of Credit Language

Since the language in Note 3 of the proposed AD is regulatory in nature, the note has been redesignated as paragraph (b) in this final rule. The remaining paragraphs of this final rule have been redesignated to accommodate this change.

Conclusion

After careful review of the available data, the FAA has determined that air safety and the public interest require the adoption of the rule with the change described previously. The FAA had determined that this change will neither increase the economic burden on any operator nor increase the scope of the AD.

Cost Impact

The FAA provides the following cost estimates for the actions specified by this AD:

Action per service bulletin | Work hours per airplane | Labor rate per hour | Parts cost per airplane | Number of U.S. airplanes affected | Per-airplane cost | Fleet cost
8-52-46 | 3 | $60 | $297 | 194 | $477 | $92,538
8-52-38 | 4 | 60 | 1,930 | 130 | 2,170 | 282,100
8-52-57 | 1 | 60 | 0 | 194 | 60 | 11,640
8-52-56 | 4 | 60 | 0 | 194 | 240 | 46,560
8-52-59 | 3 | 60 | 0 | 194 | 180 | 34,920

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-16-10 Bombardier, Inc. (Formerly de Havilland, Inc.): Amendment 39-12849. Docket 2000-NM-307-AD.

Applicability: Model DHC-8-100, -200, and -300 series airplanes; certificated in any category; serial numbers 003 through 550.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent failure of the airstair door to open after a landing, which could result in a blocked escape route during an emergency evacuation, accomplish the following:

Modifications

(a) Modify the airplane as specified in Table 1 of this AD. Table 1 is as follows:

Table 1.—Modification Requirements
For model— | Modify the airstair door by— | Within— | In accordance with the accomplishment instructions of bombardier service bulletin—
(1) DHC-8-102, -103, -106, -201, -202, -301, -311, and -315 series airplanes; serial numbers 003 through 522 inclusive | Replacing the inflation valve with a new valve of an improved design (Modsum 8Q100185) | 6 months after the effective date of this AD | 8-52-46, dated September 30, 1998.
(2) DHC-8-102, -103, -106, -301, -311, and -315 series airplanes; serial numbers 003 through 400 inclusive | Reworking the airstair door cable balance assembly (Modsum 8/2205) | 6 months after the effective date of this AD | 8-52-38, dated October 10, 1995; or 8-52-38, Revision “A,” dated September 19, 1997.
(3) DHC-8-102, -103, -106, -201, -202, -301, -311, and -315 series airplanes; serial numbers 003 through 550 inclusive | Replacing the upper cable guards on the airstair door with new, improved cable guards (Modsum 8Q101093) | 6 months after the effective date of this AD, but after the modification required by paragraph (a)(2) of this AD | 8-52-57, dated February 23, 2000; or 8-52-57, Revision “A,” dated July 28, 2000; or 8-52-57, Revision “B,” dated November 14, 2000.
(4) DHC-8-102, -103, 106, -201, -202, -301, 311, and -315 series airplanes; serial numbers 003 through 550 inclusive | (i) Manufacturing and installing a support bracket assembly (Modsum 8Q101086); and/or | 6 months after the effective date of this AD | 8-52-56, Revision “C,” dated March 10, 2000; or 8-52-56, Revision “D,” dated May 18, 2000; or 8-52-56, Revision “E,” dated July 20, 2000; or 8-52-56, Revision “F,” dated August 29, 2000; or 8-52-56, Revision “G,” dated November 7, 2000.
| (ii) Replacing the airstair door gas springs with new gas springs (Modsum 8Q101074) | 6 months after the effective date of this AD | 8-52-59, dated September 18, 2000; or 8-52-59, Revision “A,” dated January 3, 2001.

Note 2: Modsum 8Q101093 (paragraph (a)(3) of this AD) cannot be accomplished before Modification 8/2205 (paragraph (a)(2) of this AD), because Modsum 8Q101093 introduces a redesigned cable guard that replaces a cable guard that is part of Modification 8/2205.

(b) Modification, as specified by either paragraph (a)(4)(i) or (a)(4)(ii)—or both—of this AD, is acceptable for compliance with the requirements of paragraph (a)(4) of this AD.

Alternative Methods of Compliance

(c) An alternative method of compliance or adjustment of the compliance time that provides an acceptable level of safety may be used if approved by the Manager, New York Aircraft Certification Office (ACO), FAA. Operators shall submit their requests through an appropriate FAA Principal Maintenance Inspector, who may add comments and then send it to the Manager, New York ACO.

Note 3: Information concerning the existence of approved alternative methods of compliance with this AD, if any, may be obtained from the New York ACO.

Special Flight Permits

(d) Special flight permits may be issued in accordance with §§ 21.197 and 21.199 of the Federal Aviation Regulations (14 CFR 21.197 and 21.199) to operate the airplane to a location where the requirements of this AD can be accomplished.

Incorporation by Reference

(e) Unless otherwise specified in this AD, the actions shall be done in accordance with the Bombardier service bulletins listed in Table 2 of this AD, as applicable. Table 2 is as follows:

Table 2.—Service Documents
Service bulletin | Revision level | Dated
8-52-38 | Original | October 10, 1995.
8-52-38 | ‘A’ | September 19, 1997.
8-52-46 | Original | September 30, 1998.
8-52-56 | ‘C’ | March 10, 2000.
8-52-56 | ‘D’ | May 18, 2000.
8-52-56 | ‘E’ | July 20, 2000.
8-52-56 | ‘F’ | August 29, 2000.
8-52-56 | ‘G’ | November 7, 2000.
8-52-57 | Original | February 23, 2000.
8-52-57 | ‘A’ | July 28, 2000.
8-52-57 | ‘B’ | November 14, 2000.
8-52-59 | Original | September 18, 2000.
8-52-59 | ‘A’ | January 3, 2001.

This incorporation by reference was approved by the Director of the Federal Register in accordance with 5 U.S.C. 552(a) and 1 CFR part 51. Copies may be obtained from Bombardier, Inc., Bombardier Regional Aircraft Division, 123 Garratt Boulevard, Downsview, Ontario M3K 1Y5, Canada. Copies may be inspected at the FAA, Transport Airplane Directorate, 1601 Lind Avenue, SW., Renton, Washington; or at the FAA, New York Aircraft Certification Office, 10 Fifth Street, Third Floor, Valley Stream, New York; or at the Office of the Federal Register, 800 North Capitol Street, NW., Suite 700, Washington, DC.

Note 4: The subject of this AD is addressed in Canadian airworthiness directive CF-2000-19R1, dated January 22, 2001.

Effective Date

(f) This amendment becomes effective on September 26, 2002.

Issued in Renton, Washington, on August 12, 2002.
Vi Lipski,
Manager, Transport Airplane Directorate, Aircraft Certification Service.

[FR Doc. 02-20931 Filed 8-21-02; 8:45 am]

BILLING CODE 4910-13-P